DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Minority AIDS Initiative (MAI) Rapid HIV Testing Clinical Information Form (OMB No. 0930-0295)—Revision

This request is for a three-year generic clearance to continue rapid HIV testing data collection among 63 TCE-HIV Grantees and their clients and the additional 11 MAI-HIV Grantees and their clients. The primary purpose of the MAI Rapid HIV Testing Clinical Information Form is to use a standardized data collection instrument to fully capture essential clinical information to enhance preventive services for those who test HIV-negative and refer to quality treatment/medical care those who test HIV-positive.

The aim of the project is to implement and increase rapid HIV testing among racial and ethnic minorities and collect rapid HIV testing data using the MAI Rapid HIV Testing Clinical Information Form. To meet this requirement, all Grantees must offer their clients rapid HIV preliminary antibody testing during outreach, pretreatment, or program enrollment. In addition, rapid HIV testing may be made available to the sexual and/or injection partners of clients. Grantees must provide onsite rapid HIV testing in accordance with their respective State and local requirements. If a client requests an off-site rapid HIV test, the Grantee must provide a referral to a rapid HIV testing site certified by the local health department.

Grantees are currently using the MAI Rapid HIV Testing Clinical Information Form in the field to systematically collect information from clients on demographics, previous rapid HIV test results, substance use and sexual risk behaviors, current rapid HIV test results, types of services received, and confirmatory HIV test result. Once a client is offered a rapid HIV test, the Grantee staff completes the MAI Rapid HIV Testing Clinical Information Form with the client present and then enters the data into a secure Web site that allows for real-time data submission.

The estimated annualized burden is summarized below.

Respondents | Estimated number of respondents | Estimated number of responses per respondent | Average burden hours per response | Estimated total burden hours
MAI Rapid HIV Testing Clinical Information Form (FY 2008 and FY 2009—63 Grantees) | 10,000 | 1 | 0.133 | 1,330
RHT form for 11 HIV program FY 2011 grantees (public health departments) | 20,000 | 1 | 0.133 | 2,660
MAI Rapid HIV Testing Clinical Information Form (Re-test) | 6,000 | 1 | 0.133 | 798
Total | 30,000 |  |  | 4,788

Send comments to Summer King, SAMHSA Reports Clearance Officer, Room 8-1099, One Choke Cherry Road, Rockville, MD 20857 or email a copy to summer.king@samhsa.hhs.gov. Written comments must be received before 60 days after the date of the publication in the Federal Register.

Summer King,
Statistician.

[FR Doc. 2012-8798 Filed 4-11-12; 8:45 am]

BILLING CODE 4162-20-P